ENVIRONMENTAL PROTECTION AGENCY

40 CFR Part 52

[CT-054-7213A; A-1-FRL-6545-9]

Approval and Promulgation of Air Quality Implementation Plan; Connecticut, New Hampshire, and Rhode Island; Approval of National Low Emission Vehicle Program

Correction

In rule document 00-5630 beginning on page 12476 in the issue of Thursday, March 9, 2000, make the following correction:

§52.1525 [Corrected]

On page 12480, in §52.1525, in the table, under “Date approved by EPA”, add “March 9, 2000”.

[FR Doc. C0-5630 Filed 6-15-00; 8:45 am]

BILLING CODE 1505-01-D

ENVIRONMENTAL PROTECTION AGENCY

40 CFR Part 52

[Region II Docket No. NY40-2-209, FRL-6573-1]

Approval and Promulgation of Implementaion Plans; New York; Nitrogen Oxides Budget and Allowance Trading Program

Correction

In rule document 00-9544 beginning on page 20905 in the issue of Wednesday, April 19, 2000, make the following correction:

§52.1679 [Corrected]

On page 20908, in the third column, in §52.1679, in amendatory instruction 3C., in the first line, “removing” should read “revising”.

[FR Doc. C0-9544 Filed 6-15-00; 8:45 am]

BILLING CODE 1505-01-D

ENVIRONMENTAL PROTECTION AGENCY

40 CFR Part 52

[Region VII Tracking No. MO-074-1047a; FRL-6512-2]

Approval and Promulgation of Implementation Plans; State of Missouri

Correction

In rule document 99-32860 beginning on page 71663 in the issue of Wednesday, December 22, 1999, make the following correction:

§52.1320 [Corrected]

On page 71666, in the third column, in §52.1320(c), amendatory instruction 2. is corrected to read as follows:

“2. In §52.1320 in paragraph (c), the table for “Kansas City Article III-Air Pollution ” is removed and the table for “Kansas City Chapter 8-Air Quality” is revised to read as follows:”

[FR Doc. C9-32860 Filed 6-15-00; 8:45 am]

BILLING CODE 1505-01-D

DEPARTMENT OF HOUSING AND URBAN DEVELOPMENT

[Docket No.FR-4561-N-35]

Notice of Submission of Proposed Information Collection to OMB; Section 8 Management Assessment Program (SEMAP)

Correction

In notice document 00-14867 beginning on page 37162 in the issue of Tuesday, June 13, 2000, make the following correction:

On page 37162, in the third column, “Form Numbers: HUD-42648” should read “Form Numbers: HUD-52648”.

[FR Doc. C0-14867 Filed 6-15-00; 8:45 am]

BILLING CODE 1505-01-D

DEPARTMENT OF TRANSPORTATION

Federal Aviation Administration

14 CFR Part 71

[Airspace Docket No. 00-ACE-7]

Amendment to Class E Airspace; Hampton, IA

Correction

In rule document 00-12821 beginning on page 33250 in the issue of Tuesday, May 23, 2000, make the following correction:

§71.1 [Corrected]

On page 33251, in the second column, in §71.1, under the first set of astericks, add “ACE AI E5 Hampton, IA [Revised]”.

[FR Doc. C0-12821 Filed 6-15-00; 8:45 am]

BILLING CODE 1505-01-D

DEPARTMENT OF TRANSPORTATION

Federal Aviation Administration

14 CFR Part 71

[Airspace Docket No. 00-ACE-11]

Amendment of Class E Airspace; Kearney, NE

Correction

In proposed rule document 00-12820 beginning on page 32046 in the issue of Monday, May 22, 2000, make the following correction:

On page 32047, in the second column, ten lines from the bottom, “(Lat. 40°43′37″N.,” should read, “(Lat. 40°43′32″N.,”.

[FR Doc. C0-12820 Filed 6-15-00; 8:45 am]

BILLING CODE 1505-01-D